DEPARTMENT OF AGRICULTURE

Natural Resources Conservation Service

Perry Ridge West (CS-30), Calcasieu Parish, Louisiana

AGENCY: Natural Resources Conservation Service.

ACTION: Notice of Finding of No Significant Impact.

SUMMARY: Pursuant to Section 102(2)(c) of the National Environmental Policy Act of 1969; the Council on Environmental Quality Regulations (40 CFR Part 1500); and the Natural Resources Conservation Service Regulations (7 CFR Part 650); the Natural Resources Conservation Service, U.S. Department of Agriculture, gives notice that an environmental impact statement is not being prepared for Perry Ridge West (CS-30), Calcasieu Parish, Louisiana.

FOR FURTHER INFORMATION CONTACT: Donald W. Gohmert, State Conservationist, Natural Resources Conservation Service, 3737 Government Street, Alexandria, Louisiana 71302, telephone (318) 473-7751.

SUPPLEMENTARY INFORMATION: The environmental assessment of this federally assisted action indicates that the project will not cause significant local, regional, or national impacts on the environment. As a result of these findings, Donald W. Gohmert, State Conservationist, has determined that the preparation and review of an environmental impact statement are not needed for this project.

The purpose of the project is to ensure the stability of the 1,132 acres of interior marsh by providing bank protection of the critical area located along the north GIWW bankline and preventing additional breaching. Another purpose of the project is to create emergent marsh and increase the occurrence of submerged aquatic vegetation in the existing open water areas. The planned works of improvement include the placement of 9,500 linear feet along the north bank of the GIWW from Perry Ridge to the intersection of the Sabine River. An additional 2,200 feet of rock riprap will be installed from the Sabine/GIWW intersection north along the Sabine River. Additionally 17,000 linear feet of terraces will be constructed in the shallow open water areas north of the GIWW.

The notice of a Finding of No Significant Impact (FONSI) has been forwarded to the Environmental Protection Agency and to various federal, state, and local agencies and interested parties. A limited number of copies of the FONSI are available to fill single copy requests at the above address. Basic data developed during the environmental assessment are on file and may be reviewed by contacting Bruce Lehto, Assistant State Conservationist/Water Resources/Rural Development, Natural Resources Conservation Service, 3737 Government Street, Alexandria, Louisiana 71302, telephone (318) 473-7756.

No administrative action on implementation of the proposal will be taken until 30 days after the date of this publication in the Federal Register.

(This activity is listed in the Catalog of Federal Domestic Assistance under No. 10.904, Watershed Protection and Flood Prevention, and is subject to the provisions of Executive Order 12372, which requires intergovernmental consultation with State and local officials)

Dated: September 21, 2000.
Donald W. Gohmert,
State Conservationist.

[FR Doc. 00-27047 Filed 10-19-00; 8:45 am]

BILLING CODE 3410-16-P